DEPARTMENT OF TRANSPORTATION

Federal Aviation Administration

14 CFR Part 39

[Docket No. FAA-2007-28245; Directorate Identifier 2007-CE-047-AD]

RIN 2120-AA64

Airworthiness Directives; Cirrus Design Corporation Models SR20 and SR22 Airplanes

AGENCY: Federal Aviation Administration (FAA), DOT.

ACTION: Supplemental notice of proposed rulemaking (NPRM); Reopening of the comment period.

SUMMARY: We are revising an earlier proposed airworthiness directive (AD) that applies to certain Cirrus Design Corporation (CDC) Models SR20 and SR22 airplanes. The earlier NPRM would have required you to replace the cabin door rod ends at the upper and lower hinges of the cabin door with newly designed rod ends. The earlier NPRM resulted from two known occurrences of in-flight cabin door separation (one total separation and one retained by the door strut). This proposed AD would require you to replace the cabin door rod ends with new parts including a redesigned non-binding hinge pin that replaces the existing pin at the upper door hinge. Since these actions impose an additional burden over that proposed in the NPRM, we are reopening the comment period to allow the public the chance to comment on these additional actions.

DATES: We must receive comments on this proposed AD by June 2, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cirrus Design Corporation, 4515 Taylor Circle, Duluth, Minnesota 55811; telephone: (218) 727-2737; Internet address: http://www.cirrusdesign.com.

FOR FURTHER INFORMATION CONTACT: Wess Rouse, Aerospace Engineer, Chicago Aircraft Certification Office, 2300 East Devon Avenue, Room 107, Des Plaines, Illinois 60018; telephone: (847) 294-8113; fax: (847) 294-7834.

SUPPLEMENTARY INFORMATION:

Comments Invited

We invite you to send any written relevant data, views, or arguments regarding this proposed AD. Send your comments to an address listed under the ADDRESSES section. Include the docket number, “FAA-2007-28245; Directorate Identifier 2007-CE-047-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

On June 6, 2007, we issued a proposal to amend part 39 of the Federal Aviation Regulations (14 CFR part 39) to include an AD that would apply to certain CDC Models SR20 and SR22 airplanes. This proposal was published in the Federal Register as a notice of proposed rulemaking (NPRM) on June 13, 2007 (72 FR 32563). The NPRM proposed to require you to replace the cabin door rod ends at the upper and lower hinges of the cabin door with newly designed rod ends.

Comments

We provided the public the opportunity to participate in developing this AD. The following presents the comment received on the proposal and FAA's response to the comment:

Comment Issue: Revised Service Bulletin

We received a comment from CDC stating that CDC will soon release Service Bulletin (SB) SB 2X-52-07 R2 listed in the NPRM and requested the AD require accomplishment of that version.

The FAA partially agrees. The latest revision to the service bulletin should be used for AD accomplishment; however, SB 2X-52-07 R2 had an incorrectly written compliance paragraph that required SB 2X-52-07 R3. SB 2X-52-07 R3 was issued on September 24, 2007, but because of further changes necessary to insure proper door operation without binding, SB 2X-52-07 R4 was issued on January 24, 2008. We will change the proposed AD to require following the procedures in Service Bulletin SB 2X-52-07 R4, dated January 24, 2008.

FAA's Determination and Requirements of This Proposed AD

We have carefully reviewed the available data and determined that the unsafe condition referenced in this document exists or could develop on other products of the same type design; and we should take AD action to correct this unsafe condition.

Certain changes described above expand the scope of the earlier NPRM. As a result, we have determined that it is necessary to reopen the comment period to provide additional opportunity for the public to comment on the proposed AD.

The Supplemental NPRM

Since we issued the earlier NPRM, CDC issued Service Bulletin SB 2X-52-07 R4, dated January 24, 2008, which includes changes to assure proper door operation without binding.

Proposing new parts including a redesigned non-binding hinge pin that replaces the existing bolt at the upper door hinge and a castellated nut for the upper end of the hinge pin to improve security of attaching parts goes beyond the scope of what was originally proposed in the NPRM. Therefore, we are reopening the comment period and allowing the public the chance to comment on these additional actions.

Costs of Compliance

We estimate that the proposed AD affects 2,308 airplanes in the U.S. registry.

The costs vary from 3.5 work-hours to incorporate Cirrus Kit 70186-004 and 2.5 work-hours to incorporate Cirrus Kit 70186-005. Parts cost for either kit is $270. For the purposes of the proposed AD, we will use 3.5 work-hours for all airplanes. Based on this, the cost of the proposed AD is:

Labor cost | Parts cost | Total cost per airplane | Total fleet cost
3.5 work-hours × $80 per hour = $280 | $270 | $550 | $1,269,400

Note: CDC will provide warranty credit to the extent noted in CDC Service Bulletin 2X-52-07 R4, dated January 24, 2008.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cirrus Design Corporation: Docket No. FAA-2007-28245; Directorate Identifier 2007-CE-047-AD.

Comments Due Date

(a) We must receive comments on this airworthiness directive (AD) action by June 2, 2008.

Affected ADs

(b) None.

Applicability

(c) This AD applies to the following airplane models and serial numbers that are certificated in any category:

Models | Serial Nos.
SR20 | 1423 through 1906.
SR22 | 0795 and 0820 through 2912.

Unsafe Condition

(d) This AD results from two known occurrences of in-flight cabin door separation (one total separation and one retained by the door strut). We are proposing this AD to prevent in-flight failure of the cabin door, which could result in door separation from the airplane.

Compliance

(e) To address this problem, you must do the following, unless already done:

Within the next 50 hours time-in-service (TIS) after the effective date of this AD or within 180 days after the effective date of this AD, whichever occurs first, following Cirrus Design Corporation Service Bulletin SB 2X-52-07 R4, dated January 24, 2008:

(1) If threaded sleeve is installed at the cabin door rod end, install cabin door rod end Kit 70186-004.

(2) If threaded sleeve is not installed at the cabin door rod end, install cabin door rod end Kit 70186-005.

Alternative Methods of Compliance (AMOCs)

(f) The Manager, Chicago Aircraft Certification Office (ACO), FAA, has the authority to approve AMOCs for this AD, if requested using the procedures found in 14 CFR 39.19. Send information to ATTN: Wess Rouse, Aerospace Engineer, Chicago ACO, 2300 East Devon Avenue, Room 107, Des Plaines, Illinois 60018; telephone: (847) 294-8113; fax: (847) 294-7834. Before using any approved AMOC on any airplane to which the AMOC applies, notify your appropriate principal inspector (PI) in the FAA Flight Standards District Office (FSDO), or lacking a PI, your local FSDO.

Related Information

(g) To get copies of the service information referenced in this AD, contact Cirrus Design Corporation, 4515 Taylor Circle, Duluth, Minnesota 55811, telephone: (218) 788-3000. To view the AD docket, go to the U.S. Department of Transportation, Docket Operations, M-30, West Building Ground Floor, Room W12-140, 1200 New Jersey Avenue, SE., Washington, DC 20590, or on the Internet at http://dms.dot.gov. The docket number is Docket No. FAA-2007-28245; Directorate Identifier 2007-CE-047-AD.

Issued in Kansas City, Missouri, on March 26, 2008.
John Colomy,
Acting Manager, Small Airplane Directorate, Aircraft Certification Service.

[FR Doc. E8-6786 Filed 4-1-08; 8:45 am]

BILLING CODE 4910-13-P